DEPARTMENT OF ENERGY

Federal Energy Regulatory Commission

Notice of Request To Use Alternative Procedures in Preparing a License Application

May 9, 2002.

Take notice that the following request to use alternative procedures to prepare a license application has been filed with the Commission.

a. Type of Application: Request to use alternative procedures to prepare a new license application.

b. Project No.: 2204.

c. Date filed: April 24, 2002.

d. Applicant: City and County of Denver, Colorado, acting by and through its Board of Water Commissioners (Denver Water).

e. Name of Project: Williams Fork Reservoir Project.

f. Location: On the Williams Fork River, in Grand County, northern Colorado. The project occupies no federal lands.

g. Filed Pursuant to: Federal Power Act, 16 U.S.C. 791(a)-825(r).

h. Applicant Contact: Kevin Urie, Licensing Project Manager, Denver Water, 1600 West 12th Avenue, Denver, CO 80254, (303)628-5987.

i. FERC Contact: Dianne Rodman at (202) 219-2830; e-mail dianne.rodman@ferc.gov.

j. Deadline for Comments: 30 days from the date of this notice.

All documents (original and eight copies) should be filed with: Magalie R. Salas, Secretary, Federal Energy Regulatory Commission, 888 First Street, NE, Washington, DC 20426.

Comments may be filed electronically via the Internet in lieu of paper. See 18 CFR 385.2001(a)(1)(iii) and the instructions on the Commission's Web site (http://www.ferc.gov) under the “e-Filing” link.

k. The existing 3.0-megawatt project consists of a 706-foot-long, 217-foot-high dam; an impoundment with a storage capacity of 96,822 acre-feet; a power plant with one turbine and one generator; and appurtenant facilities.

l. A copy of the request to use alternative procedures is on file with the Commission and is available for public inspection. This filing may also be viewed on the Web at http://www.ferc.gov using the “RIMS” link—select “Docket #” and follow the instructions (call 202-208-2222 for assistance). A copy is also available for inspection and reproduction at the address in item h above.

m. Denver Water has demonstrated that it has made an effort to contact all federal and state resources agencies, non-governmental organizations (NGOs), and others affected by the project. Denver Water has also demonstrated that a consensus exists that the use of alternative procedures is appropriate in this case. Denver Water has submitted a communications protocol that is supported by the majority of stakeholders. Denver Water intends to file 6-month progress reports during the alternative procedures process that leads to the filing of a license application by December 31, 2004.

The purpose of this notice is to invite any additional comments on Denver Water's request to use the alternative procedures, pursuant to Section 4.34(i) of the Commission's regulations. Additional notices seeking comments on the specific project proposal, interventions and protests, and recommended terms and conditions will be issued at a later date. Denver Water will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

Linwood A. Watson, Jr.,
Deputy Secretary.

[FR Doc. 02-12105 Filed 5-14-02; 8:45 am]

BILLING CODE 6717-01-P